DEPARTMENT OF HEALTH AND HUMAN SERVICES

Substance Abuse and Mental Health Services Administration

Center for Substance Abuse Treatment; Notice of Meeting Cancellation

This is a notice of meeting cancellation of the Substance Abuse and Mental Health Services Administration's (SAMHSA) Center for Substance Abuse Treatment (CSAT) National Advisory Council (NAC) of February 27, 2019, 9:00 a.m.-5:00 p.m. (EDT). The meeting was announced on the Federal Register/Vol. 83, No. 245/Friday, December 21, 2018/[FR Doc. 2018-27637 Filed 12-20-18].

Future meetings will be announced at a later time. Pertinent council information may be obtained by contacting the CSAT National Advisory Council Designated Federal Officer; Tracy Goss (see contact information below).

Council Name: SAMHSA's Center for Substance Abuse Treatment, National Advisory Council.

Contact: Tracy Goss, Designated Federal Officer, CSAT National Advisory Council, 5600 Fishers Lane, Rockville, Maryland 20857 (mail), Telephone: (240) 276-0759, Fax: (240) 276-2252, Email: tracy.goss@samhsa.hhs.gov.

Dated: January 28, 2019.
Carlos Castillo,
Committee Management Officer.

[FR Doc. 2019-00545 Filed 1-31-19; 8:45 am]

BILLING CODE 4162-20-P